FEDERAL COMMUNICATIONS COMMISSION

47 CFR Part 73

[DA 07-1447; RM-10798]

Radio Broadcasting Services; Annville, Manchester, Mt. Vernon, West Liberty, KY

AGENCY: Federal Communications Commission.

ACTION: Final rule; denial of petition for reconsideration.

SUMMARY: This document denies a Petition for Reconsideration filed jointly by Vernon R. Baldwin, Inc., Morgan County Industries, Inc., and Vernon R. Baldwin (“Petitioners”) directed to a letter which returned their Joint Petition for Rule Making (“Joint Petition”). The Joint Petition was defective because the proposed site at Mt. Vernon failed to provide a 70 dBu signal over the entire community due to terrain obstruction. This document finds that it is not in the public interest to allow Petitioners on reconsideration to reinstate and amend their Joint Petition with a new site because a Petition for Rule Making must be technically correct at the time of filing. With this action, the proceeding is terminated.

FOR FURTHER INFORMATION CONTACT: Helen McLean, Media Bureau (202) 418-2738.

SUPPLEMENTARY INFORMATION: This is a synopsis of the Commission's Memorandum Opinion and Order, adopted March 28, 2007, and released March 30, 2007. The full text of this Commission decision is available for inspection and copying during regular business hours at the FCC's Reference Information Center, Portals II, 445 Twelfth Street, SW., Room CY-A257, and Washington, DC 20554. The complete text of this decision may also be purchased from the Commission's duplicating contractor, Best Copy and Printing, Inc., 445 12th Street, SW., Room CY-B402, Washington, DC 20554, telephone 1-800-378-3160 or www.BCPIWEB.com. This document is not subject to the Congressional Review Act. (The Commission, is, therefore, not required to submit a copy of this Memorandum Opinion and Order to the Government Accountability Office, pursuant to the Congressional Review Act, see 5 U.S.C. 801(a)(1)(A) because the petition for reconsideration was denied.

Federal Communications Commission.
John A. Karousos,
Assistant Chief, Audio Division Media Bureau.

[FR Doc. E7-7257 Filed 4-17-07; 8:45 am]

BILLING CODE 6712-01-P